DEPARTMENT OF COMMERCE

National Oceanic and Atmospheric Administration

[RTID 0648-XE433]

New England Fishery Management Council; Public Meeting

AGENCY: National Marine Fisheries Service (NMFS), National Oceanic and Atmospheric Administration (NOAA), Commerce.

ACTION: Notice of public meeting.

SUMMARY: The New England Fishery Management Council (Council) is scheduling a hybrid meeting of its Scallop Advisory Panel to consider actions affecting New England fisheries in the exclusive economic zone (EEZ). Recommendations from this group will be brought to the full Council for formal consideration and action, if appropriate.

DATES: This meeting will be held on Wednesday, November 20, 2024 at 9 a.m.

ADDRESSES:

Meeting address: This meeting will be held at Hilton Garden Inn, Boston Logan, 100 Boardman Street, Boston, MA 02110, Phone (617) 567-5678.

Webinar registration URL information: https://nefmc-org.zoom.us/meeting/register/tJcocOqtqD8qH9Z2sXIMGe2LNCkb5NmQPHSH.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The Scallop Advisory Panel will meet to discuss: Framework 39 (FW39): Review specifications alternatives in FW39 and select final preferred alternatives. FW39 will set specifications including the overfishing limit (OFL), acceptable biological catch/annual catch limit (ABC/ACLs), days-at-sea (DAS), access area allocations for Limited Access (LA) vessels, quota and access area trip allocation to the Limited Access General Category (LAGC) Individual Fishing Quota (IFQ) component, Total Allowable Landings (TAL) for the Northern Gulf of Maine (NGOM) management area, a target-Total Allowable Catch (TAC) for LAGC incidental catch and set-asides for the observer and research programs for fishing year 2025, and default specifications for fishing year 2026. This action also considers modifying the seasonal bycatch closure of Area II to improve yield and reduce impacts to northern windowpane flounder and modifying the possession prohibition for NGOM-permitted scallop vessels on a declared NGOM trip to possess scallops outside of the NGOM management area. Other business will be discussed, if necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: October 30, 2024.
Rey Israel Marquez,
Acting Deputy Director, Office of Sustainable Fisheries, National Marine Fisheries Service.

[FR Doc. 2024-25587 Filed 11-1-24; 8:45 am]

BILLING CODE 3510-22-P